DEPARTMENT OF DEFENSE

Department of the Air Force

Privacy Act of 1974; System of Records

AGENCY: Department of the Air Force, DoD.

ACTION: Notice to add a record system.

SUMMARY: The Department of the air Force proposes to add a system of records notice to its inventory of records systems subject to the Privacy Act of 1974 (5 U.S.C. 552a), as amended.

DATES: The actions will be effective on December 27, 2005, unless comments are received that would result in a contrary determination.

ADDRESSES: Send comments to the Air Force Privacy Act Officer, Office of Warfighting Integration and Chief Information Officer, SAF/XCISI, 1800 Air Force Pentagon, Suite 220, Washington, DC 20330-1800.

FOR FURTHER INFORMATION CONTACT: Ms. Novella Hill at (703) 588-7855.

SUPPLEMENTARY INFORMATION: The Department of the Air Force's record system notices for records systems subject to the Privacy Act of 1974 (5 U.S.C. 552a), as amended, have been published in the Federal Register and are available from the address above.

The proposed system report, as required by 5 U.S.C. 522a(r) of the Privacy Act of 1974, as amended, was submitted on November 18, 2050 to the House Committee on Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: November 18, 2005.
L.M. Bynum,
OSD Federal Register Liaison Officer, Department of Defense.

F051 SAFGC A

System Name:

Air Force Mediator Utilization Management Records.

System Location:

Primary Location: Office of the General Counsel, Dispute Resolution Division; SAF/GCD, 1740 Air Force Pentagon, Washington, DC 20330-1740.

Secondary Location: Information copies are maintained at Air Force installations or units that implement the Air Force Mediator Certification Program. Official mailing addresses are published as an appendix to the Air Force's compilation of record systems notices.

Categories of individuals covered by the system:

Active Duty and Civilian Air Force employees who are appointed to serve as collateral duty mediators in the Air Force workplace.

Categories of records in the system:

Records include the mediator's name, duty location, mediation experience, mediation or other relevant training, special skills, evaluations by co-mediators or mediation mentors, recommendations for certification, proof of training (e.g., training certificates, transcripts, diplomas), and documents created as a result of assistance provided.

Authority for maintenance of the system:

Administrative Dispute Resolution Act, 5 U.S.C. 573, Neutrals; and 10 U.S.C. 8019, General Counsel of the Air Force.

Purpose(s):

To maintain rosters of Air Force collateral duty mediators at Air Force installations and facilities; and, to evaluate Air Force applications for certification.

Routine uses of records maintained in the system including categories of users and the purpose of such uses:

In addition to those disclosures generally permitted under 5 U.S.C. 552a(b) of the Privacy Act, these records or information contained therein may specifically be disclosed outside the DoD as a routine use pursuant to 5 U.S.C. 552a(b)(3) as follows:

The DoD “Blanket Routine Uses” published at the beginning of the Air Force's compilation of record system notices apply to this system.

Policies and practices for storing, retrieving, accessing, retaining, and disposing of records in the system:

Storage:

Maintained in file folders and on electronic storage media.

Retrievability:

Retrieved by mediator's last name.

Safeguards:

Records are accessed by person(s) responsible for servicing the record system in performance of their official duties and who are properly screened and cleared for need-to-know. Records are stored in locked cabinets and rooms. Records in computer devices are password protected by computer system software.

Retention and disposal:

Files of Certified Mediators are retained so long as certification remains active and destroyed one (1) year after certification lapses; rejected Mediator Certification applications are retained one (1) year after application and then destroyed; and mediator rosters are retained for a period of three (3) years and then destroyed.

System manager(s) and address:

Director of Workplace ADR Programs, Office of the General Counsel, Dispute Resolution Division; SAF/GCD, 1740 Air Force Pentagon, Washington, DC 20330-1740.

Notification procedure:

Individuals seeking to determine whether this system of records contains information on themselves should address written inquiries to the Air Force installations or units that implement the Air Force Mediator Program.

Written requests must contain name, address, or any reasonable identifying particulars about the subject in question.

Record access procedures:

Individuals seeking access to information about themselves should address written inquiries to Air Force installations or units that implement the AIr Force Mediator Certification Program.

Written requests must contain name, address, or any reasonable identifying particulars about the subject in question.

Contesting records procedures:

The Air Force rules for accessing records, and for contesting contents and appealing initial agency determinations are published in Air Force Instruction 33-332; 32 CFR part 806b; or may be obtained from the system manager.

Record source categories:

From individuals; Air Force records.

Exemptions claimed for the system:

None.

[FR Doc. 05-23263 Filed 11-23-05; 8:45 am]

BILLING CODE 5001-06-M